DEPARTMENT OF THE INTERIOR

Bureau of Land Management

Notice of Realty Action; Competitive Sale of Public Lands in Clark County, Nevada

The following lands have been designated for disposal under Public Law 105-263, the Southern Nevada Public Land Management Act of 1998 (112 Stat. 2343), and will be sold competitively in accordance with Section 203 of the Federal Land Policy and Management Act of 1976 (90 Stat. 2750, 43 U.S.C. 1713), at not less than the appraised fair market value (FMV).

BILLING CODE 4310-HC-U

EN01FE00.000

EN01FE00.001

EN01FE00.002

EN01FE00.003

EN01FE00.004

EN01FE00.005

EN01FE00.006

EN01FE00.007

EN01FE00.008

EN01FE00.009

BILLING CODE 4310-HC-C

Until the completion of the sale, the BLM is no longer accepting land use applications nor will consider as filed, to include, but not limited to, rights-of-way, permits, leases, and will return applications on such public lands.

The terms and conditions applicable to the sale are:

All Parcels Subject to the Following:

1. A reservation of all leaseable and saleable mineral deposits in the land so patented, and to it, its permittees, licensees and lessees, the right to prospect for, mine, and remove the minerals owned by the United States under applicable law and such regulations as the Secretary of the Interior may prescribe, including all necessary access and exit rights.

2. A right-of-way is reserved for ditches and canals constructed by authority of the United States under the Act of August 30, 1890 (43 U.S.C. 945).

3. Subject to all valid and existing rights. Encumbrances have been identified on parcels 00-02, 03, 06, 07, 13-15, 17-28, 33-52, 55, 58, 61-63, 65-68, 73, 75-82, 86-89, parcels without notation have no encumbrances of record. Encumbrances of record are available for review during business hours, 7:30 a.m. to 4:15 p.m. Monday through Friday, at the Bureau of Land Management, Las Vegas Field Office, 4765 Vegas Drive, Las Vegas, Nevada.

The parcels will be offered for competitive sale beginning at 9:00 a.m. PST, June 8 and 9, 2000, at the Clark County Commission Chambers, Clark County Government Center, 500 S. Grand Central Parkway, Las Vegas, Nevada. Registration for oral bidding will begin at 8:00 a.m. each day of the sale and will continue throughout the auction. All bidders are required to register.

In order to determine the fair market value of the subject public lands through appraisal, certain assumptions have been made on the attributes and limitations of the lands and potential effects of local regulations and policies on potential future land uses. Through publication of this notice the Bureau of Land Management gives notice that these assumptions may not be endorsed or approved by units of local government.

Furthermore, no warranty of any kind shall be given or implied by the United States as to the potential uses of the selected lands, and conveyance of the subject lands will not be on a contingency basis. It is the buyers' responsibility to be aware of all applicable local government policies and regulations that would affect the subject lands. When conveyed out of federal ownership, the lands will be subject to any applicable reviews and approvals by the respective unit of local government for proposed future uses, and any such reviews and approvals would be the responsibility of the buyer. Any land lacking access from a public road or highway will be conveyed as such, and future access acquisition will be the responsibility of the buyer.

Each parcel will be offered by sealed bid and oral auction. All sealed bids must be received in the BLM's Las Vegas Field Office (LVFO), 4765 Vegas Drive, Las Vegas, NV 89108, by no later than 4:15 p.m. PST, June 6, 2000. Sealed bid envelopes must be marked on the front left corner with the parcel number and sale date. Bids must be for not less than the Fair Market Value (FMV) specified in the appraisal, with a separate bid submitted for each parcel. The appraisal reports will be available for public review at the BLM office on or before May 1, 2000. Each sealed bid shall be accompanied by a certified check, postal money order, bank draft, or cashier's check made payable to the Bureau of Land Management, for not less than 20 percent of the amount bid.

The highest qualified sealed bid on each parcel will determine the starting monetary point for oral bidding. If no sealed bids are received, oral bidding will begin at the appraised FMV. The highest qualifying bid for any parcel, whether sealed or oral, shall be declared the highest bid. The apparent high bidder, if an oral bidder, must submit the required bid deposit immediately following the close of the sale in the form of cash, personal check, bank draft, money order, or any combination thereof, made payable to the Bureau of Land Management, for not less than 20 percent of the amount bid.

The remainder of the full bid price, whether sealed or oral, shall be paid within 180 calendar days of the date of the sale. Failure to pay the full price within the 180 days shall disqualify the apparent high bidder and cause the bid deposit to be forfeited to the BLM. Unsold parcels will be withdrawn from sale, but may be offered again at a future date on the Internet or at future auctions.

Federal law requires that bidders must be U.S. citizens 18 years of age or older; a corporation subject to the laws of any State or of the United States; a State, State instrumentality, or political subdivision authorized to hold property; and an entity, including but not limited to associations or partnerships, capable of holding property or interests therein under the law of the State of Nevada. Certification of qualification, including citizenship or corporation or partnership papers, shall accompany the bid deposit.

Detailed information concerning the sale, including the reservations, sale procedures and conditions, and planning and environmental documents, is available at the Bureau of Land Management, Las Vegas Field Office, 4765 Vegas Drive, Las Vegas, NV 89108, or by calling (702) 647-5114. Some of this information is also available on the Internet at http://www.nv.blm.gov. Click on Southern Nevada Public Land Management Act, then you must click on Land Sale Information.

For a period of 45 days from the date of publication of this notice in the Federal Register, the general public and interested parties may submit comments to the Field Manager, Las Vegas Field Office, 4765 Vegas Drive, Las Vegas, Nevada 89108. Any adverse comments will be reviewed by the State Director who may sustain, vacate, or modify this realty action. In the absence of any adverse comments, this realty action will become the final determination of the Department of the Interior. The Bureau of Land Management may accept or reject any or all offers, or withdraw any land or interest in the land from sale, if, in the opinion of the authorized officer, consummation of the sale would not be fully consistent with FLPMA, or other applicable laws. Any comments received during this process as well as your name and address, will be available to the public in the administrative record and/or pursuant to a Freedom of Information Act request. You may indicate for the record that you do not wish your name and/or address made available to the public. Any determination by the Bureau of Land Management to release or withhold the names and/or addresses of those who comment, will be made on a case-by-case basis. A commenter's request to have their name and/or address withheld from public release will be honored to the extent permissible by law. The lands will not be offered for sale until at least 60 days after the date of publication of this notice in the Federal Register.

Dated: January 24, 2000.
Mark T. Morse,
Field Manager.

[FR Doc. 00-2080 Filed 1-31-00; 8:45 am]

BILLING CODE 4310-HC-U